POSTAL SERVICE

39 CFR Part 111

New Standards for Letter-Size Booklets and Folded Self-Mailers

AGENCY: Postal Service ™.

ACTION: Proposed rule.

SUMMARY: On March 14, 2008, we published in the Federal Register (Volume 73, Number 51, pages 13812-13813) an advance notice of our intent to develop new mailing standards for folded self-mailers and booklets mailed at automation and machinable letter prices. In that advance notice, we provided justification for these changes, announced a two-phase testing initiative, and reported the results of the first phase of testing. We invited comments from customers and asked that they suggest alternative booklet designs that could improve mailpiece performance.

The following proposed rule is based on the results of completed testing. We propose revisions to tab size, tab location, paper weight, and dimensions for folded self-mailers and booklets mailed at automation or machinable letter prices.

DATES: We must receive your comments on or before January 28, 2009.

ADDRESSES: Mail or deliver written comments to the Manager, Mailing Standards, U.S. Postal Service, 475 L'Enfant Plaza SW., Room 3436, Washington, DC 20260-3436. You may inspect and photocopy all written comments at USPS Headquarters Library, 475 L'Enfant Plaza SW., 11th Floor N., Washington, DC between 9 a.m. and 4 p.m., Monday through Friday.

FOR FURTHER INFORMATION CONTACT: Susan Thomas, 202-268-7268.

SUPPLEMENTARY INFORMATION: Many folded self-mailers and booklets mailed at automation and machinable letter prices do not process successfully on letter-sorting machines. Unenveloped pieces tend to double feed and jam resulting in damage to the equipment and the mail. These problems and the resulting loss of machine time make it necessary to process some types of folded self-mailers and booklets on flat sorting equipment or in manual operations. Typically these operations are slower and more labor intensive resulting in higher processing costs. To improve efficiency, the USPS ® worked with customers to test multiple mailpiece designs and arrived at revised standards that improve automation processing.

In addition to the controlled testing of 400 specially-manufactured mailpieces, in phase two of the testing our Engineering Department also evaluated 124 live mailings and tested 70 sample mailings provided by customers to determine optimal size, thickness, cover stock, tab style, tab strength, tab location and binding. Several customers actively participated and were present to observe the tests. When a mailpiece was nonmachinable, customers were encouraged to resubmit modified pieces for additional testing and evaluation.

We are sensitive to the current economic climate and the effect these changes may have on the mailing community. Based on the results of our tests we identified incremental opportunities for improvement while preserving as many mailpiece design options as possible. Our proposed standards and the resulting changes to folded self-mailer and booklet designs will make it possible to sort this type of mail on automation letter sorting equipment. These changes align with our operational goals to increase delivery point sequencing of letter mail in an effort to control costs and improve service. We will continue to monitor folded self-mailer and booklet performance in the automation mailstream and update the requirements as needed to reduce jams and mailpiece and machine damage. Revised standards for postcards and letter-sized cards will be issued in a subsequent Federal Register notice.

Overview of Comments

We received five comments in response to our advance notice. All the commenters expressed concern that tabs without perforations would make mailpieces hard to open.

Enveloped letters are sorted at a rate of 10 pieces per second on automation equipment. Tabbed folded self-mailers and letter-size booklets do not process like enveloped letters. Our tests revealed that tabs with perforations are easily broken and do not maintain their integrity while being transported or during automated letter sorting. Folded self-mailers and booklets may be damaged if the seals used as closures fail during high-speed processing. To minimize these issues, we concluded that tabs on folded self-mailers and booklets may not be perforated. We will continue to accept tabs without perforations made of plastic, vinyl, translucent paper, opaque paper and cellophane tape closures.

Summary of Changes and Implementation

The following proposed changes to the design of folded self-mailers and booklets will make it possible to process them in the automated letter mailstream. References to paper weights are for book-grade paper unless otherwise specified. A conversion table to other paper grades is included in DMM ® Exhibit 201.3.2.

Examples of folded self-mailer and booklet designs are:

• A folded self-mailer is a single continuous sheet of paper folded to create a letter-size mailpiece.

• Booklets consist of multiple sheets of paper. Multiple sheets may be folded together to form a letter-sized booklet. Booklets may be perfect bound or permanently fastened with staples or another method that creates a uniformly thick mailpiece. Bound booklets may be folded for mailing if the final mailpiece remains uniform in thickness.

• We are proposing the use of tabs with no perforations. Tab size is dictated by the design of the mailpiece. Booklets need three 1½-inch tabs and folded self-mailers need two 1-inch tabs. For larger and heavier booklets, we recommend 2-inch paper tabs.

• Glue spots or a continuous glue line may be used to seal some folded self-mailer and booklet designs.

• We will continue the current maximum weight of 3 ounces. However, 3-ounce booklets are processed with the least amount of damage when the final trim size is reduced to 9 inches in length.

Booklets

• Maximum size: 6 inches high by 10½ inches long by 0.25 inches thick.

• Cover stock: 40 pound minimum basis weight for some designs: 60- or 70-pound minimum for pieces longer than 9 inches. Lighter paper is more easily damaged in processing. We strongly recommend the use of 70-pound paper as cover stock on mailpiece designs that approach maximum letter-size dimensions. The use of paper that is 10 pounds heavier than the required minimum basis weight is recommended for better performance.

Optional Booklet Preparation—Oblong

Oblong booklets must be prepared with a spine on the leading edge. Booklets with a spine on the trailing edge are not machinable.

Folded Self-Mailers

Changes include:

• A new definition of folded self-mailers which limits pieces to those made from one continuous sheet of paper.

• Maximum size: 6 inches high by 10½ inches long by 0.25 inches thick.

• Paper stock from 50 to 70 pounds, depending on the design of the mailpiece.

• Increased size, placement, and number of tabs.

Nonmachinable Pieces

A nonmachinable price (for Standard Mail ®), a surcharge (for First-Class Mail ®), or a nonbarcoded price (for Periodicals) applies to booklets and folded self-mailers that do not comply with the proposed standards and are too small to be mailed at flats prices. Such pieces are not eligible for automation or machinable letter prices.

Implementation

We propose to implement these standards in May 2009, concurrent with the Mailing Services price change.

Although the Postal Service is exempt from the notice and comment requirements of the Administrative Procedure Act [5 U.S.C. of 553(b), (c)] regarding proposed rulemaking by 39 U.S.C. 410(a), we invite public comments on the following proposed revisions to Mailing Standards of the United States Postal Service, Domestic Mail Manual (DMM), incorporated by reference in the Code of Federal Regulations. See 39 CFR 111.1.

List of Subjects in 39 CFR Part 111

Administrative practice and procedure, Postal Service.

Accordingly, 39 CFR 111 is proposed to be amended as follows.

PART 111—[AMENDED]

1. The authority citation for 39 CFR Part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

* * * * *

Mailing Standards of the United States Postal Service, Domestic Mail Manual (DMM)

* * * * *

200 Commercial Mail Letters and Cards

201 Physical Standards

1.0 Physical Standards for Machinable Letters and Cards

1.1 Physical Standards for Machinable Letters

* * * * *

1.1.3 All Machinable Letters

[Revise the first sentence of 1.1.3 as follows:]

All pieces of First-Class Mail and Standard Mail machinable letters must meet the standards for automation-compatible letters in 201.3.0. * * *

* * * * *

3.0 Physical Standards for Machinable Letters and Cards

[Revise text of 3.1 as follows:]

3.1 Basic Standards for Automation Letters and Cards

Letters and cards claimed at any machinable or automation card or letter price or Standard Mail Enhanced Carrier Route letter price must meet the standards in 3.0. Unless prepared as a folded self-mailer, booklet, or postcard under 3.15 through 3.17, each machinable or automation letter must be a sealed envelope (the preferred method) or, if unenveloped, must be sealed or glued completely along all four sides. Machinable and automation pieces must not be sealed with tabs on the bottom edge.

[Delete current 3.4 through 3.6 in their entirety.]

[Renumber current 3.2 through 3.3 as new 3.4 through 3.5.]

[Add new 3.2 and new 3.3 as follows:]

3.2 Paper

Mailpieces must be constructed from high tear strength paper stock. All references in 3.0 to paper basis weight are for book-grade paper unless otherwise stated. The conversion table in Exhibit 3.2 provides a paper basis weight cross-reference. The paper basis weights are based on the weight of 500 sheets of 17 × 22 inch bond-grade paper, 25 × 38 inch sheets of book-grade paper, and 20 × 26 inch sheets of cover-grade paper.

Exhibit 3.2—Paper Basis Weight Conversion Table
If you use book paper weight of (pounds) | Then you can use bond paper weight of (pounds) | Or cover paper weight of (pounds)
40 | 16 | 22
50 | 20 | 27
55 | 22 | 30
60 | 24 | 33
70 | 28 | 40
75 | 30 | 41
80 | 31 | 44
90 | 36 | 50
100 | 40 | 56
110 | 44 | 60
128 | 50 | 70

3.3 Static and Coefficient of Friction

Letter-sized machinable and automation mailpieces must be made of paper material with the following characteristics:

a. Static charge of less than 2 KV when tested using test method ASTM D4470.

b. Kinetic coefficient of friction between 0.26 and 0.34 when tested as paper to same paper using test method ASTM D 4917.

[Revise heading and text of renumbered 3.4 as follows:]

3.4 Dimensions and Shape

Each machinable or automation letter-sized piece must be rectangular (see 1.1.1) and, except folded self-mailers and booklets, must meet the following standards:

a. Height: not more than 6⅛ inches or less than 3½ inches high.

b. Length: not more than 11½ inches or less than 5 inches long.

c. Thickness: not more than 0.25 inch or less than 0.009 inch thick.

d. Dimensions and shape standards for folded self-mailers see 3.15; for booklets, see 3.16.

* * * * *

[Renumber current 3.7 through 3.13 as new 3.8 through 3.14 and add new 3.6 as follows:]

3.6 Maximum Weight, Machinable and Automation Letters and Cards

a. Booklets and folded self-mailers—3 ounces.

b. Machinable enveloped letters and cards—3.3 ounces.

c. Automation enveloped letters and cards—3.5 ounces (see 3.7 for pieces over 3 ounces.)

[Renumber current 3.14.4 as new 3.7 and revise as follows:]

3.7 Heavy Letter Mail (Over 3 Ounces)

Heavy letter mail (letter-size pieces over 3 ounces) must be prepared in a sealed envelope, may not contain stiff enclosures, and must have a POSTNET or an Intelligent Mail barcode with a delivery point routing code in the address block (see 202.5.0).

* * * * *

[Revise renumbered 3.12 as follows:]

3.12 Tabs, Tape, and Glue

Tabs on booklets must be at least 1½ inches in diameter. Tabs on folded self-mailers must be at least 1 inch in diameter. The tab placement standards in 3.15 and 3.16 are subject to ¼-inch variance in either direction. Tabs may be made of opaque paper, translucent paper, vinyl or plastic and must not contain perforations. Cellophane tape may also be used as a closure. The following standards also apply:

a. Translucent paper tabs should be made of paper with a minimum of 40-pound basis weight.

b. Opaque paper tabs should be made of a minimum of 60-pound basis weight paper with a tear strength of at least 56 grams of force in the machine direction (MD) and 60 grams of force in the cross direction (CD).

c. Tabs in the barcode clear zone must have a paper face meeting the standards for background reflectance and, if the barcode is not preprinted by the mailer, the standards for acceptance of water-based ink.

d. Vinyl tabs and cellophane tape closures are not acceptable within the barcode clear zone.

e. Tabs must be tight against the edge of the mailpiece. A maximum 1/32-inch overhang is recommended.

f. Two-inch opaque paper tabs are strongly recommended for booklets over 2.5 ounces.

g. Glue spots may be used in lieu of tabs on some folded self-mailer designs (see 3.15.4). and must be placed within ¾ inch of the open edges (see Exhibit 01.3.12.g)

Exhibit 201.3.12.g Glue Spot Placement

h. Continuous glue lines may be used as cover-to-cover seals on some designs (see 3.15.4 and 3.16.4). and must be placed along the entire length of the open edge and end no more than ¾ inch from the open ends (see Exhibit 201.3.12.h)

Exhibit 201.3.12.h Glue Line Placement

* * * * *

[Renumber current 3.14.1 as new 3.15 and revise title and text as follows:]

3.15 Folded Self-Mailers

3.15.1 Definition

A folded self-mailer is a single, continuous sheet of paper with no binding, folded to create a letter-size mailpiece.

3.15.2 Paper Weight

Folded self-mailers generally must be made of paper with a minimum 50 pound basis weight or equivalent. The minimum basis weight is higher for some designs (see exhibit 3.15.4).

3.15.3 Physical Standards for Folded Self-Mailers

Folded self-mailers must meet the following standards:

a. Height: not more than 6 inches or less than 3.5 inches high.

b. Length: not more than 10.5 inches or less than 5 inches long.

c. Thickness: not more than 0.25 inch or less than 0.009 inch thick.

d. Weight: not more than 3 ounces.

e. Aspect ratio: within 1.3 to 2.5 (see 201.3.1).

3.15.4 Folded Self-Mailer Design and Sealing

Additional tabs or seals may be used. Do not place tabs or seals on the bottom edge of the mailpiece (see exhibit 3.15.4).

Exhibit 3.15.4 Folded Self-Mailer Design

BILLING CODE 7710-12-P

[Renumber current 3.14.2 as new 3.16 and revise as follows:]

3.16 Booklets

3.16.1 Definition

Booklets are multiple sheets of paper. Multiple sheets may be folded together to form a letter-sized booklet. Booklets may be perfect bound or permanently fastened with staples or another method that creates a uniformly thick mailpiece. Bound booklets may be folded for mailing if the final mailpiece remains uniform in thickness.

3.16.2 Paper

Booklet covers generally must be made with a minimum paper basis weight of 60-pounds or equivalent. Minimum basis weights are higher for some designs (see 3.16.4).

3.16.3 Physical Standards for Booklets

Booklets must meet the following standards:

a. Height: not more than 6 inches or less than 3.5 inches high.

b. Length: not more than 10.5 inches or less than 5 inches long.

c. Thickness: not more than 0.25 inches or less than 0.009 inches thick.

d. Weight: not more than 3 ounces.

e. Aspect ratio: within 1.3 to 2.5 (see 201.3.1).

3.16.4 Booklet Design and Sealing

Booklets may be designed with the spine or fold at the bottom or on the leading edge and applicable sealing (see exhibit 3.16.4).

Exhibit 3.16.4 Booklet Design

[Renumber current 3.14.3 as new 3.17.]

[Renumber current 3.14.4 as new 3.7.]

[Renumber current 3.15 as new 3.18.]

* * * * *

We will publish an appropriate amendment to 39 CFR 111 if our proposal is adopted.

Stanley F. Mires,
Chief Counsel, Legislative.

[FR Doc. E8-30752 Filed 12-24-08; 8:45 am]

BILLING CODE 7710-12-C